DEPARTMENT OF DEFENSE

Department of the Air Force

Record of Decision for the Entry Control Reconfiguration and Base Perimeter Fence Relocation in area A Wright-Patterson AF Base, Ohio, Final Environmental Impact Statement

ACTION: Notice of Availability (NOA) of a Record of Decision (ROD).

SUMMARY: On June 21, 2012, the United States Air Force signed the ROD for the Entry Control Reconfiguration and Base Perimeter Fence Relocation in Area A Wright-Patterson Air Force Base (WPAFB), Ohio Final Environmental Impact Statement (FEIS). The ROD states the Air Force decision to implement the Proposed Action to include reconfiguration of the entry control facilities and relocate base perimeter fence across State Route 444 analyzed in the FEIS.

The decision was based on matters discussed in the FEIS, inputs from the public and regulatory agencies, and other relevant factors. The FEIS was made available to the public on May 11, 2012 through a NOA in the Federal Register (Volume 77, Number 92, Page 27771) with a wait period that ended on June 12 2012. The ROD documents only the decision of the Air Force with respect to the proposed Air Force actions analyzed in the FEIS. Authority: This NOA is published pursuant to the regulations (40 CFR Part 1506.6) implementing the provisions of the NEPA of 1969 (42 USC. 4321, et seq.) and the Air Force's Environmental Impact Analysis Process (EIAP) (32 CFR Parts 989.21(b) and 989.24(b)(7)) .

FOR FURTHER INFORMATION CONTACT: Ms. Estella Holmes, 88 ABW/PA 5735 Pearson Road, Building 10, Room 252, Wright-Patterson AFB, Ohio, 45433-5543, (937) 522-3522. Additional Information on the EIS can be found at: http://www.wpafb.af.mil/units/cev/index.asp.

Henry Williams Jr,
Acting Air Force Federal Register Liaison Officer.

[FR Doc. 2012-17388 Filed 7-16-12; 8:45 am]

BILLING CODE 5001-10-P